DEPARTMENT OF HEALTH AND HUMAN SERVICES

Agency for Healthcare Research and Quality

Contract Review Meeting

In accordance with section 10(a) of the Federal Advisory Committee Act as amended (5 U.S.C., appendix 2), announcement is made of an Agency for Healthcare Research and Quality (AHRQ) Technical Review Committee (TRC) meeting. This TRC's charge is to review contract proposals and provide recommendations to the Acting Director, AHRQ, with respect to the technical merit of proposals submitted in response to a Request for Proposals (RFP) regarding a “Patient Safety Program Evaluation Center”. The RFP was published in the FedBizOpps on April 5, 2002.

The upcoming TRC meeting will be closed to the public in accordance with the Federal Advisory Committee Act (FACA), section 10(d) of 5 U.S.C., appendix 2 and procurement regulations, 41 CFR 101-6.1023 and 48 CFR 315.604(d). The discussions at this meeting of contract proposals submitted in response to the above-referenced RFP are likely to reveal proprietary information and personal information concerning individuals associated with the proposals. Such information is exempt from disclosure under the above-cited FACA provision that protects the free exchange of candid views, and under the procurement rules that prevent undue interference with Committee and Department operations.

Name of TRC: The Agency for Healthcare Research and Quality—“Patient Safety Program Evaluation Center”.

Date: July 8, 2002.

Place: Agency for Healthcare Research & Quality, 6010 Executive Blvd, 4th Floor Conference Center, Rockville, Maryland 20852.

Contact Person: Anyone wishing to obtain information regarding this meeting should contact James Battles, Center for Quality Improvement and Patient Safety, Agency for Healthcare Research and Quality, 6011 Executive Blvd, Suite 200, Rockville, Maryland, 20852, 301-594-9892.

Dated: June 11, 2002.
Carolyn M. Clancy,
Acting Director.

[FR Doc. 02-15219 Filed 6-17-02; 8:45 am]

BILLING CODE 4160-AD-M